DEPARTMENT OF EDUCATION

Accrediting Agencies Currently Undergoing Review for the Purposes of Recognition by the U.S. Secretary of Education

AGENCY: Accreditation Group, Office of Postsecondary Education, Accreditation Group, U.S. Department of Education.

ACTION: Call for written third-party comments.

SUMMARY: This notice provides information to members of the public on submitting written comments for accrediting agencies currently undergoing review for purposes of recognition by the U.S. Secretary of Education.

FOR FURTHER INFORMATION CONTACT: Herman Bounds, Director, Accreditation Group, Office of Postsecondary Education, U.S. Department of Education, 400 Maryland Avenue SW, Room 2C158, Washington, DC 20202, telephone: (202) 453-7615, or email: herman.bounds@ed.gov.

SUPPLEMENTARY INFORMATION: This request for written third-party comments concerning the performance of accrediting agencies under review by the Secretary of Education is required by 496(n)(1)(A) of the Higher Education Act (HEA) of 1965, as amended, and pertains to the winter 2024 meeting of the National Advisory Committee on Institutional Quality and Integrity (NACIQI). The meeting date and location have not been determined but will be announced in a later Federal Register notice. In addition, a later Federal Register notice will describe how to register to provide oral comments at the meeting.

Agencies Under Review and Evaluation: The Department requests written comments from the public on the following accrediting agencies, which are currently undergoing review and evaluation by the Accreditation Group, and which will be reviewed at the winter 2024 NACIQI meeting.

The agencies are listed by the type of application each agency has submitted. Please note, each agency's current scope of recognition is indicated below. If any agency requests a change to its scope of recognition, identified are both the current scope of recognition and the requested scope of recognition.

Applications for Renewal of Recognition

1. The Kansas State Board of Nursing. Scope of Recognition: state agency for the approval of nurse education.

2. The Missouri State Board of Nursing. Scope of Recognition: state agency for the approval of nurse education.

3. The Oklahoma Department of Career and Technology Education. Scope of Recognition: the approval of public postsecondary vocational education offered at institutions in the State of Oklahoma that are not under the jurisdiction of the Oklahoma State Regents for Higher Education, including the approval of public postsecondary vocational education offered via distance education.

4. New York State Board of Regents (Public Postsecondary Vocational Ed). Scope of Recognition: state agency for the approval of public postsecondary vocational education in the field of practical nursing offered by a Board of Cooperative Educational Services, an Educational Opportunity Center, City School Districts, and County Boards of Supervisors to prepare persons for licensed practical nursing careers in the State of New York.

5. The Pennsylvania State Board for Career and Technical Education. Scope of Recognition: state agency for the approval of public postsecondary vocational education.

Compliance Reports

1. Accrediting Commission for Acupuncture and Herbal Medicine (ACAHM). Scope of recognition: the accreditation and pre-accreditation (“Candidacy”) of professional non-degree and graduate degree programs, including professional doctoral programs, in the field of acupuncture and/or Oriental medicine, as well as freestanding institutions and colleges of acupuncture and/or Oriental medicine that offer such programs. Geographic Area of Accrediting Activities: throughout the United States. Please note, this accrediting agency changed its name from “Accrediting Commission for Acupuncture and Oriental Medicine (ACAOM)” effective September 8, 2021.

The compliance report must address findings of noncompliance with 34 CFR 602, as referenced in the senior Department official's (SDO) decision letter dated October 27, 2021. The SDO also required that the Department staff 34 CFR 602.33 inquiry findings concerning the Seldin/Haring-Smith Foundation case study on Sex Trafficking and State Authorized Massage Schools, which involved an ACAHM accredited institution, be produced as part of the ACAHM compliance report. The SDO decision letter may be found under NACIQI meeting date July 27, 2021, available at: https://surveys.ope.ed.gov/erecognition/#/public-documents

2. Council on Occupational Education. Scope of recognition: the accreditation and pre-accreditation (“Candidacy Status”) of postsecondary occupational education institutions offering non-degree and applied associate degree programs in specific career and technical education fields, including institutions that offer programs via distance education. Geographic Area of Accrediting Activities: throughout the United States.

The compliance report must address findings of noncompliance with 34 CFR 602, as referenced in the SDO decision letter dated October 27, 2021. The SDO decision letter may be found under NACIQI meeting date July 27, 2021, available at: https://surveys.ope.ed.gov/erecognition/#/public-documents.

3. Transnational Association of Christian Colleges and Schools, Accreditation Commission. Scope of Recognition: the accreditation and pre-accreditation (“Candidate” status) of Christian postsecondary institutions that offer certificates, diplomas, and associate, baccalaureate, and graduate degrees, including institutions that offer distance education. Geographic Area of Accrediting Activities: throughout the United States. The compliance report must address findings of noncompliance with 34 CFR 602, as referenced in the SDO decision letter dated October 27, 2021. The SDO decision letter may be found under NACIQI meeting date July 27, 2021, available at: https://surveys.ope.ed.gov/erecognition/#/public-documents.

Military Degree Granting Authority Substantive Change Approval in Accordance With Department of Defense DOD Instruction 5545.04

1. The National Defense University. Name Change of degree program from “Master of Science in Government Information Leadership” to “Master of Science in Strategic Information and Cyberspace Studies.”

Expansion of Scope

1. National Nurse Practitioner Residency and Fellowship Training Consortium. Scope of Recognition: the accreditation of nurse practitioner (NP) postgraduate residency and fellowship training programs. This recognition also extends to the agency's Appeals Panel. Requested Scope: the accreditation of joint nurse practitioner/physician assistant postgraduate residency and fellowship training programs. This recognition also extends to the agency's Appeals Panel.

Submission of Written Comments Regarding a Specific Accrediting Agency Under Review

Written comments about the recognition of any of the accrediting agencies listed above must be received by December 12, 2022, in the ThirdPartyComments@ed.gov mailbox. Please include in the subject line “Written Comments: (agency name).” The electronic mail (email) must include the name(s), title, organization/affiliation, mailing address, email address, and telephone number of the person(s) making the comment. Comments should be submitted as a PDF, Microsoft Word document or in a medium compatible with Microsoft Word that is attached to an email or provided in the body of an email message. Comments about an agency that has submitted a compliance report scheduled for review by the Department must relate to the criteria for recognition cited in the SDO's letter that requested the report, or in the Secretary's appeal decision, if any. Comments about an agency that has submitted a petition for initial recognition, renewal of recognition, or an expansion of scope must relate to the agency's compliance with the Criteria for the recognition of Accrediting Agencies or the Criteria for the recognition of state agencies, which are available at: https://www2.ed.gov/admins/finaid/accred/index.html.

Only written materials submitted by the deadline to the email address listed in this notice, and in accordance with these instructions, become part of the official record concerning agencies scheduled for review and are considered by the Department and NACIQI in their deliberations.

Electronic Access to this Document: The official version of this document is the document published in the Federal Register. Free internet access to the official edition of the Federal Register and the Code of Federal Regulations is available via the Federal Digital System at: www.gpo.gov/fdsys. At this site, you can view this document, as well as all other documents of the Department published in the Federal Register, in text or Adobe Portable Document Format (PDF). To use PDF, you must have Adobe Acrobat Reader, which is available free at the site. You may also access documents of the Department published in the Federal Register by using the article search feature at: www.federalregister.gov. Specifically, through the advanced search feature at this site, you can limit your search to documents published by the Department.

(Authority: 20 U.S.C. 1011c; 20 U.S.C. 1099b)

Annmarie Weisman,
Deputy Assistant Secretary for Policy, Planning and Innovation, Office of Postsecondary Education.

[FR Doc. 2022-24637 Filed 11-10-22; 8:45 am]

BILLING CODE 4000-01-P